FEDERAL COMMUNICATIONS COMMISSION

47 CFR Part 54

[WC Docket No. 02-60; FCC 12-150]

Rural Health Care Support Mechanism

AGENCY: Federal Communications Commission.

ACTION: Final rule; announcement of effective date.

SUMMARY: In this document, the Commission announces that the Office of Management and Budget (OMB) has approved the non-substantive revisions to the information collection associated with the Commission's Service Provider Identification Number and Contact Form. This announcement is consistent with the Universal Service—Rural Health Care Program, Report and Order (Order), which stated that the Commission would publish a document in the Federal Register announcing the effective date of those rules.

DATES: The amendments affecting 47 CFR 54.640(b) and 54.679 published at 78 FR 13936, March 1, 2013, are effective June 27, 2013.

FOR FURTHER INFORMATION CONTACT: Mark Walker, Wireline Competition Bureau at (202) 418-2668 or TTY (202) 418-0484.

SUPPLEMENTARY INFORMATION: This document announces that, on May 29, 2013, OMB approved the non-substantive revisions to the information collection requirements contained in the Commission's Service Provider Identification Number and Contact Form, 77 FR 42728, July 20, 2012. The OMB Control Number is 3060-0824. The Commission publishes this notice as an announcement of the effective date of the rules. If you have any comments on the burden estimates listed below, or how the Commission can improve the collections and reduce any burdens caused thereby, please contact Judy Herman, Federal Communications Commission, Room 1-C823, 445 12th Street SW., Washington, DC 20554. Please include the OMB Control Number, 3060-0824, in your correspondence. The Commission will also accept your comments via email please send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on May 29, 2013, for the information collection requirements contained in the Commission's rules at 47 CFR 54.640(b) and 54.679.

Under 5 CFR part 1320, an agency may not conduct or sponsor a collection of information unless it displays a current, valid OMB Control Number.

No person shall be subject to any penalty for failing to comply with a collection of information subject to the Paperwork Reduction Act, that does not display a current, valid OMB Control Number. The OMB Control Number is 3060-0824.

The foregoing notice is required by the Paperwork Reduction Act of 1995, Public Law 104-13, October 1, 1995, and 44 U.S.C. 3507.

The total annual reporting burdens and costs for the respondents are as follows:

OMB Control Number: 3060-0824.

OMB Approval Date: May 29, 2013.

OMB Expiration Date: November 30, 2015.

Title: Service Provider Identification Number and Contact Form.

Form Number: FCC Form 498.

Type of Review: Revision of a currently approved collection.

Respondents: Business or other for-profit and not-for-profit institutions.

Number of Respondents: 5,000 respondents; 5,000 responses.

Estimated Time per Response: 1.5 hours.

Frequency of Response: On occasion reporting requirements and third party disclosure requirements.

Obligation to Respond: Required to obtain or retain benefits. Statutory authority for this collection of information is contained in 47 U.S.C. 151-154 and 254 the Communications Act of 1934, as amended.

Total Annual Burden: 7,500 hours.

Total Annual Cost: N/A.

Privacy Impact Assessment: N/A.

Nature and Extent of Confidentiality: The Commission notes that the Universal Service Administrative Company (USAC) who administers the universal service program must preserve the confidentiality of all data obtained from respondents and contributors to the universal service programs, must not use the data except for purposes of administering the universal service programs, and must not disclose data in company-specific form unless directed to do so by the Commission. With respect to the FCC Form 498, USAC shall publish each participant's name, Service Provider Identification Number (SPIN), and contact information via USAC's Web site. All other information, including financial institution account numbers or routing information, shall remain confidential.

Needs and Uses: The Commission has received OMB approval to the non-substantive revisions of this information collection.

One of the functions of USAC is to provide a means for the billing, collection and disbursement of funds for the universal service support mechanisms.

On October 1998, the OMB first approved FCC Form 498, the “Service Provider Information Form” to enable USAC to collect service provider name and address, telephone number, Federal Employer Identification Number (EIN), contact names, contact telephone numbers, and remittance information. FCC Form 498 enables participants to request a SPIN and provides the official record for participation in the universal service support mechanisms. The remittance information provided by participants on FCC Form 498 enables USAC to make payments to participants in the universal service support mechanisms.

The following non-substantive revisions were made to the FCC Form 498: Page 1, replaced “FRN Number” with “FCC Registration Number (CORES ID)”, the same revisions were made to page 5 of the Instructions; Page 8, line 122, the Rural Health Care Program offset indicator was separated from the Schools and Libraries offset indicator, page 10 of the Instructions was revised to remove the mandatory offset requirement and page 14 of the Instructions was revised to add the separate offset indicator for the Rural Health Care Program; Page 8, line 23, added a certification for service providers (vendors) participating in the Healthcare Connect Fund, the same certification was added to page 14 of the Instructions; and Page 18 of the Instructions was revised to include a definition for “officer.”

The information collected on the FCC Form 498 is used by USAC to disburse federal universal service support consistent with the specifications of eligible participants in the universal service programs. FCC Form 498 submissions also provide USAC with updated contact information so that USAC can contact universal service fund participants when necessary. Without such information, USAC would not be able to distribute support to the proper entities and this would prevent the Commission from fulfilling its statutory responsibilities under the Act to preserve and advance universal service.

Federal Communications Commission.
Marlene H. Dortch,
Secretary.

[FR Doc. 2013-15312 Filed 6-26-13; 8:45 am]

BILLING CODE 6712-01-P